NUCLEAR REGULATORY COMMISSION

[Docket No. PAPO-001; ASLBP No. 08-861-01-PAPO-BD01]

Department of Energy; High-Level Waste Repository: Pre-Application Matters, Advisory PAPO Board; Notice of Reconstitution

Pursuant to 10 CFR 2.313 and 2.321, the Atomic Safety and Licensing Board in the above captioned United States Department of Energy proceeding is hereby reconstituted by appointing Administrative Judge Paul S. Ryerson in place of Administrative Judge E. Roy Hawkens.

In accordance with 10 CFR 2.302, henceforth all correspondence, documents, and other material relating to any matter in this proceeding over which this Licensing Board has jurisdiction should be served on Judge Ryerson as follows: Administrative Judge Paul S. Ryerson, Atomic Safety and Licensing Board Panel, U.S. Nuclear Regulatory Commission, Washington, DC 20555-0001.

Issued at Rockville, Maryland this 20th day of March 2008.
E. Roy Hawkens,
Chief Administrative Judge, Atomic Safety and Licensing Board Panel.

[FR Doc. E8-6222 Filed 3-25-08; 8:45 am]

BILLING CODE 7590-01-P